DEPARTMENT OF THE INTERIOR

National Park Service

[NPS-WASO-NRNHL-16960; PPWOCRADI0, PCU00RP14.R50000]

National Register of Historic Places; Notification of Pending Nominations and Related Actions

Nominations for the following properties being considered for listing or related actions in the National Register were received by the National Park Service before October 10, 2014. Pursuant to § 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington, DC 20005; or by fax, 202-371-6447. Written or faxed comments should be submitted by November 18, 2014. Before including your address, phone number, email address, or other personal identifying information in your comment, you should be aware that your entire comment—including your personal identifying information—may be made publicly available at any time. While you can ask us in your comment to withhold your personal identifying information from public review, we cannot guarantee that we will be able to do so.

Dated: October 16, 2014.
J. Paul Loether,
Chief, National Register of Historic Places/National Historic Landmarks Program.

ARIZONA

Pima County

Pie Allen Historic District (Boundary Decrease), 829, 835/837, 841, 841, 843, 903, 905, 907 E. 6th St., Tucson, 14000949

COLORADO

Las Animas County

Monument Lake Park Building and Hatchery Complex, 4789 CO 12, Weston, 14000950

FLORIDA

Broward County

Mai—Kai Restaurant, 3599 N. Federal Hwy., Oakland Park, 14000951

Pinellas County

Sunset Hotel, 7401 Central Ave., St. Petersburg, 14000952

St. Johns County

City of St. Augustine Miniature Golf Course, 111 Avenida Menendez, St. Augustine, 14000953

GUAM

Guam County

Pugua Point Archeological District, Address Restricted, Dededo, 14000954

MARYLAND

Baltimore County

Fort Carroll, Soller's Flats, Patapsco R., Curtis Bay, 14000955

MINNESOTA

Hennepin County

First Presbyterian Church of Oak Grove Cemetery, 10340 Lyndale Ave., S., Bloomington, 14000956

MONTANA

Jefferson County

Montana State Training School Historic District, Roughly bounded by MT 69, Riverside Rd. & Boulder R., Boulder, 14000957

Missoula County

Double Arrow Lodge, 301 Lodge Way, Seeley Lake, 14000958

OREGON

Baker County

Cornucopia Jailhouse, 2nd St., Cornucopia, 14000959

Josephine County

Siskiyou Smokejumper Base (Boundary Increase), Smokejumper Way, Cave Junction, 14000960

Wallowa County

Lostine Pharmacy, 125 OR 82, Lostine, 14000961

TEXAS

Dallas County

Johnson Rooming House, 1026 N. Beckley Ave., Dallas, 14000962

Paine House, 2515 W. 5th St., Irving, 14000963

Lavaca County

Kahn and Stanzel Building, 115 N. Main St., Hallettsville, 14000964

Potter County

Vineyard Manor, 1201 S. Polk St., Amarillo, 14000965

Tarrant County

Hotel Texas (Boundary Increase), 815 Main & 815 Commerce Sts., Fort Worth, 14000966

A request for removal has been made for the following resource:

ARIZONA

Pima County

Canoa Ranch Headquarters Historic District, 5555 S. AZ 19, Green Valley, 04001158

[FR Doc. 2014-26000 Filed 10-31-14; 8:45 am]

BILLING CODE 4312-51-P